DEPARTMENT OF ENERGY

Federal Energy Regulatory Commission

Combined Notice of Filings #1

Take notice that the Commission received the following electric corporate filings:

Docket Numbers: EC20-20-000.

Applicants: Verso Androscoggin LLC, Verso Energy Services LLC.

Description: Application for Authorization Under Section 203 of the Federal Power Act, et al. of Verso Androscoggin LLC, et al.

Filed Date: 11/27/19.

Accession Number: 20191127-5218.

Comments Due: 5 p.m. ET 12/18/19.

Take notice that the Commission received the following electric rate filings:

Docket Numbers: ER11-2041-014; ER11-2042-014.

Applicants: Innovative Energy Systems, LLC, Seneca Energy II, LLC.

Description: Notice of Non-Material Change in Status of Innovative Energy Systems, LLC, et al.

Filed Date: 12/2/19.

Accession Number: 20191202-5017.

Comments Due: 5 p.m. ET 12/23/19.

Docket Numbers: ER17-194-004.

Applicants: Hartree Partners, LP.

Description: Notice of Non-Material Change in Status of Hartree Partners, LP.

Filed Date: 11/27/19.

Accession Number: 20191127-5216.

Comments Due: 5 p.m. ET 12/18/19.

Docket Numbers: ER19-62-000.

Applicants: OneEnergy Baker Point Solar, LLC.

Description: Report Filing: Refund Report (ER19-62-) to be effective N/A.

Filed Date: 12/2/19.

Accession Number: 20191202-5023.

Comments Due: 5 p.m. ET 12/23/19.

Docket Numbers: ER20-32-001.

Applicants: AEP Texas Inc.

Description: Tariff Amendment: AEPTX(n)-LCRA TSC Hayter Ranch FDA Amend Pending to be effective 9/27/2019.

Filed Date: 12/2/19.

Accession Number: 20191202-5093.

Comments Due: 5 p.m. ET 12/23/19.

Docket Numbers: ER20-494-000.

Applicants: Milligan 3 Wind LLC.

Description: Request for Waiver, et al. of Milligan 3 Wind LLC.

Filed Date: 11/27/19.

Accession Number: 20191127-5204.

Comments Due: 5 p.m. ET 12/16/19.

Docket Numbers: ER20-495-000.

Applicants: Midcontinent Independent System Operator, Inc.

Description: § 205(d) Rate Filing: 2019-12-02_SA 3380 Entergy Louisiana-Fresh Air Energy II GIA (J639) to be effective 11/15/2019.

Filed Date: 12/2/19.

Accession Number: 20191202-5004.

Comments Due: 5 p.m. ET 12/23/19.

Docket Numbers: ER20-497-000.

Applicants: Arizona Public Service Company.

Description: § 205(d) Rate Filing: Rate Schedule No. 211, Amendment 20 to be effective 1/31/2020.

Filed Date: 12/2/19.

Accession Number: 20191202-5035.

Comments Due: 5 p.m. ET 12/23/19.

Docket Numbers: ER20-498-000.

Applicants: Midcontinent Independent System Operator, Inc., Otter Tail Power Company.

Description: § 205(d) Rate Filing: 2019-12-02_SA 3382 OTP-NSPM FSA (J460) Hankinson-Wahpeton to be effective 2/1/2020.

Filed Date: 12/2/19.

Accession Number: 20191202-5040.

Comments Due: 5 p.m. ET 12/23/19.

Docket Numbers: ER20-499-000.

Applicants: ISO New England Inc., The United Illuminating Company.

Description: § 205(d) Rate Filing: The United Illuminating Company; Docket No. ER20-__-000 to be effective 1/31/2020.

Filed Date: 12/2/19.

Accession Number: 20191202-5065.

Comments Due: 5 p.m. ET 12/23/19.

Docket Numbers: ER20-500-000.

Applicants: Midcontinent Independent System Operator, Inc., Otter Tail Power Company.

Description: § 205(d) Rate Filing: 2019-12-02_SA 3383 OTP-Crowned Ridge Wind II FSA (G736 J442) to be effective 2/1/2020.

Filed Date: 12/2/19.

Accession Number: 20191202-5071.

Comments Due: 5 p.m. ET 12/23/19.

Docket Numbers: ER20-501-000.

Applicants: Alabama Power Company.

Description: § 205(d) Rate Filing: Americus Solar & Battery Amended and Restated LGIA Filing to be effective 11/15/2019.

Filed Date: 12/2/19.

Accession Number: 20191202-5098.

Comments Due: 5 p.m. ET 12/23/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2019.
Nathaniel J. Davis, Sr.,
Deputy Secretary.

[FR Doc. 2019-26340 Filed 12-5-19; 8:45 am]

BILLING CODE 6717-01-P